POSTAL SERVICE

39 CFR Part 20

Global Express Guaranteed: Changes in Postal Rates

AGENCY: Postal Service.

ACTION: Amendment to interim rule.

SUMMARY: On December 11, 2000, a Federal Register notice (65 FR 77302) was published with correct new rates but erroneously omitted the revised country group listing. In addition, the rate groups were listed with an alpha-character designation, when in fact the rate groups have numeric designations. This amendment publishes the rate charts and the revised country group listing.

EFFECTIVE DATE: The effective date is concurrent with the effective date for the new domestic rates, January 7, 2001. Comments on the amendment to the interim rule must be received on or before January 6, 2001.

ADDRESSES: Written comments should be mailed or delivered to Business Initiatives, Expedited/Package Services, U.S. Postal Service, 200 E. Mansell Court, Suite 300, Roswell, GA 30076-4850. Copies of all written comments will be available for public inspection between 9 a.m. and 4 p.m., Monday through Friday, in the Expedited/Package Services office, 200 E. Mansell Court, Suite 300, Roswell, GA.

FOR FURTHER INFORMATION CONTACT: Malcolm E. Hunt, 770-360-1104.

SUPPLEMENTARY INFORMATION: Global Express Guaranteed (GXG) is the U.S. Postal Service's premium international mail service. GXG is an expedited delivery service that is the product of a business alliance between the U.S. Postal Service and DHL Worldwide Express, Inc. It provides time-definite service from designated U.S. ZIP Code areas to locations in over 200 destination countries and territories. Global Express Guaranteed consists of two mail classifications: Global Express Guaranteed Document Service and Global Express Guaranteed Non-Document Service. Regulations for Global Express Guaranteed service are currently set forth in section 215 of the International Mail Manual (IMM). These regulations will be moved to IMM 210 pursuant to the notice published in Federal Register on September 26, 2000. Numerous and successive expansions and changes to the service have been listed in previous Federal Register notices and were summarized in the final rule Federal Register published on December 6, 2000 (65 FR 76154).

The GXG rates, set forth below, are based on experience gained with providing the service and more accurately reflect the actual costs of providing this service across the various rate groups.

Although the Postal Service is exempted by 39 U.S.C. 410(a) from the advance notice requirements of the Administrative Procedure Act regarding proposed rulemaking (5 U.S.C. 553), the Postal Service invites public comment on the interim rule at the above address.

The Postal Service is implementing the following rates and amending the International Mail Manual, which is incorporated by reference in the Code of Federal Regulations. See 39 CFR 20.1.

List of Subjects in 39 CFR Part 20

Foreign relations, International postal services.

PART 20—[AMENDED]

1. The authority citation for 39 CFR Part 20 continues to read as follows:

Authority: 5 U.S.C. 552(a); 39 U.S.C. 401, 404, 407, 408.

2. Chapter 2 of the International Mail Manual is amended as follows:

2 Conditions for Mailing

* * * * *

210 Global Express Guaranteed

* * * * *

213 Service Areas

* * * * *

213.2 Destinating Countries and Rate Groups

GXG service is available to the following destinating countries and territories. For rate purposes, countries have been placed into one of eight rate groups.

Country | Document service rate group | Non-document service rate group
Afghanistan | No Service | No Service
Albania | 8 | 8
Algeria | 8 | 8
Andorra | 6 | 6
Angola | 8 | 8
Anguilla | 3 | 3
Antigua & Barbuda | 3 | 3
Argentina | 5 | 5
Armenia | 8 | 8
Aruba | 3 | 3
Ascension | No Service | No Service
Australia | 4 | 4
Austria | 6 | 6
Azerbaijan | 8 | 8
Bahamas | 3 | 3
Bahrain | 7 | 7
Bangladesh | 7 | 7
Barbados | 3 | 3
Belarus | 8 | 8
Belgium | 3 | 3
Belize | 5 | 5
Benin | 8 | 8
Bermuda | 3 | 3
Bhutan | 5 | 5
Bolivia | 5 | 5
Bosnia-Herzegovina | 8 | 8
Botswana | 8 | 8
Brazil | 5 | 5
British Virgin Islands | 3 | 3
Brunei Darussalam | 8 | 8
Bulgaria | 8 | 8
Burkina Faso | 8 | 8
Burma (Myanmar) | 8 | 8
Burundi | 8 | 8
Cambodia | 8 | 8
Cameroon | 8 | 8
Canada | 1 | 1
Cape Verde | 8 | 8
Cayman Islands | 3 | 3
Central African Republic | 8 | 8
Chad | 8 | 8
Chile | 5 | 5
China | 4 | 4
Colombia | 5 | 5
Comoros | 8 | 8
Congo, Democratic Republic of the | 8 | 8
Congo, Republic of the (Brazzaville) | 8 | 8
Costa Rica | 5 | 5
Cote d'Ivoire (Ivory Coast) | 8 | 8
Croatia | 8 | 8
Cuba | 8 | No Service
Cyprus | 7 | 7
Czech Republic | 8 | 8
Denmark | 6 | 6
Djibouti | 8 | 8
Dominica | 3 | 3
Dominican Republic | 3 | 3
Ecuador | 5 | 5
Egypt | 7 | No Service
El Salvador | 5 | 5
Equatorial Guinea | 8 | 8
Eritrea | 8 | 8
Estonia | 8 | 8
Ethiopia | 8 | 8
Falkland Islands | 5 | 5
Faroe Islands | 6 | 6
Fiji | 5 | 5
Finland | 6 | 6
France | 3 | 3
French Guiana | 5 | No Service
French Polynesia | 8 | 8
Gabon | 8 | 8
Gambia | 8 | 8
Georgia, Republic of | 8 | 8
Germany | 3 | 3
Ghana | 8 | 8
Gibraltar | 6 | 6
Great Britain & Northern Ireland | 3 | 3
Greece | 6 | 6
Greenland | 6 | 6
Grenada | 3 | 3
Guadeloupe | 3 | 3
Guatemala | 5 | 5
Guinea | 8 | 8
Guinea-Bissau | 8 | 8
Guyana | 5 | 5
Haiti | 3 | 3
Honduras | 5 | 5
Hong Kong | 3 | 3
Hungary | 8 | 8
Iceland | 6 | 6
India | 7 | 7
Indonesia | 4 | 4
Iran | 7 | No Service
Iraq | No Service | No Service
Ireland (Eire) | 3 | 3
Israel | 7 | 7
Italy | 3 | 3
Jamaica | 3 | 3
Japan | No Service | No Service
Jordan | 7 | 7
Kazakhstan | 8 | 8
Kenya | 8 | 8
Kiribati | 8 | 8
Korea, Democratic People's Rep. of (North) | No Service | No Service
Korea, Republic of (South) | 4 | 4
Kuwait | 7 | 7
Kyrgyzstan | 8 | 8
Laos | 8 | 8
Latvia | 8 | 8
Lebanon | 7 | 7
Lesotho | 8 | 8
Liberia | 8 | 8
Libya | No Service | No Service
Liechtenstein | 6 | 6
Lithuania | 8 | 8
Luxembourg | 3 | 3
Macao | 3 | 3
Macedonia, Republic of | 8 | 8
Madagascar | 8 | 8
Malawi | 8 | 8
Malaysia | 4 | 4
Maldives | 8 | 8
Mali | 8 | 8
Malta | 6 | 6
Martinique | 3 | 3
Mauritania | 8 | 8
Mauritius | 8 | 8
Mexico | 2 | 2
Moldova | 8 | 8
Mongolia | 8 | 8
Montserrat | 3 | 3
Morocco | 8 | 8
Mozambique | 8 | 8
Namibia | 8 | 8
Nauru | 8 | 8
Nepal | 8 | 8
Netherlands | 3 | 3
Netherlands Antilles | 3 | 3
New Caledonia | 5 | 5
New Zealand | 4 | 4
Nicaragua | 5 | 5
Niger | 8 | 8
Nigeria | 8 | 8
Norway | 6 | 6
Oman | 7 | 7
Pakistan | 7 | 7
Panama | 5 | 5
Papua New Guinea | 5 | 5
Paraguay | 5 | 5
Peru | 5 | 5
Philippines | 4 | 4
Pitcairn Island | No Service | No Service
Poland | 8 | 8
Portugal | 6 | 6
Qatar | 7 | 7
Reunion | 8 | 8
Romania | 8 | 8
Russia | 8 | 8
Rwanda | 8 | 8
St. Christopher (St. Kitts) & Nevis | 3 | 3
Saint Helena | No Service | No Service
Saint Lucia | 3 | 3
Saint Pierre & Miquelon | 1 | 1
Saint Vincent & Grenadines | 3 | 3
San Marino | 3 | 3
Sao Tome & Principe | 8 | 8
Saudi Arabia | 7 | 7
Senegal | 8 | 8
Serbia-Montenegro (Yugoslavia) | 8 | 8
Seychelles | 8 | 8
Sierra Leone | 8 | 8
Singapore | 3 | 3
Slovak Republic (Slovakia) | 8 | 8
Slovenia | 8 | 8
Solomon Islands | 8 | 8
Somalia | 8 | 8
South Africa | 8 | 8
Spain | 6 | 6
Sri Lanka | 7 | 7
Sudan | No Service | No Service
Suriname | 5 | 5
Swaziland | 8 | 8
Sweden | 6 | 6
Switzerland | 6 | 6
Syrian Arab Republic (Syria) | 7 | No Service
Taiwan | 3 | 3
Tajikistan | 8 | 8
Tanzania | 8 | 8
Thailand | 4 | 4
Togo | 8 | 8
Tonga | 8 | 8
Trinidad & Tobago | 3 | 3
Tristan da Cunha | No Service | No Service
Tunisia | 8 | 8
Turkey | 7 | 7
Turkmenistan | 8 | 8
Turks & Caicos Islands | 3 | 3
Tuvalu | 8 | 8
Uganda | 8 | 8
Ukraine | 8 | 8
United Arab Emirates | 7 | 7
Uruguay | 5 | 5
Uzbekistan | 8 | 8
Vanuatu | 5 | 5
Vatican City | 3 | 3
Venezuela | 5 | 5
Vietnam | 4 | 4
Wallis & Futuna Islands | 4 | 4
Western Samoa | 4 | 4
Yemen | 7 | 7
Zambia | 8 | 8
Zimbabwe | 8 | 8

GXG service is available to all locations that are referenced in the Individual Country Listings except for the following:

Afghanistan

Ascension

Iraq

Japan

Korea, Democratic People's Republic of (North)

Libya

Pitcairn Island

Saint Helena

Sudan

Tristan de Cunha

The following countries are limited to GXG Document service only:

Cuba

Egypt

French Guiana

Iran

Syrian Arab Republic (Syria)

* * * * *

216 Postage

216.1 Document Service Rates/Groups

BILLING CODE 7710-12-P

* * * * *

Stanley F. Mires,
Chief Counsel, Legislative.

[FR Doc. 00-33140 Filed 12-27-00; 8:45 am]

BILLING CODE 7710-12-C